SECURITIES AND EXCHANGE COMMISSION

[Release No. 34-56787; File No. SR-Amex-2007-108]

Self-Regulatory Organizations; American Stock Exchange LLC; Order Approving a Proposed Rule Change To Increase the Annual Listing Fees for Certain Stock Issues of Listed Companies

November 15, 2007.

On October 3, 2007, the American Stock Exchange LLC (“Amex” or “Exchange”) filed with the Securities and Exchange Commission (“Commission”), pursuant to Section 19(b)(1) of the Securities Exchange Act of 1934 (“Act”) ¹ and Rule 19b-4 thereunder,² a proposed rule change to amend Section 141 of the Amex Company Guide to increase the annual listing fees for certain stock issues of listed companies. The proposed rule change was published for comment in the Federal Register on October 16, 2007.³ The Commission received no comment letters on the proposal. This order approves the proposed rule change.

¹ 15 U.S.C. 78s(b)(1).

² 17 CFR 240.19b-4.

³ See Securities Exchange Act Release No. 56636 (October 10, 2007), 72 FR 58691.

Amex proposes to amend Section 141 of the Amex Company Guide to raise the annual listing fee, for any stock issue of 50 million shares or less, to $27,500 per year. Currently, for such issues, Amex charges between $16,500 and $24,500 per year, depending on the number of shares outstanding.

After careful review, the Commission finds that Amex's proposal is consistent with the requirements of the Act and the rules and regulations thereunder applicable to a national securities exchange.⁴ In particular, the Commission finds that the proposal is consistent with Section 6(b)(4) of the Act,⁵ which requires, among other things, that the rules of the Exchange provide for the equitable allocation of reasonable dues, fees, and other charges among members and issuers and other persons using the Exchange's facilities. The Commission notes that no comments were received on the proposed fee increase, which is comparable to the annual listing fee imposed by another exchange that has been approved by the Commission.⁶

⁴ In approving this proposal, the Commission has considered the proposed rule's impact on efficiency, competition, and capital formation. See 15 U.S.C. 78c(f).

⁵ 15 U.S.C. 78f(b)(4).

⁶ See Securities Exchange Act Release No. 55202 (January 30, 2007), 72 FR 6017 (February 8, 2007) (SR-NASDAQ-2006-040) (approving $27,500 annual fee on Nasdaq Capital Market issuers for any amount of shares outstanding).

It is therefore ordered, pursuant to Section 19(b)(2) of the Act,⁷ that the proposed rule change (SR-Amex-2007-108), be, and hereby is, approved.

⁷ 15 U.S.C. 78s(b)(2).

For the Commission, by the Division of Trading and Markets, pursuant to delegated authority.⁸
⁸ 17 CFR 200.30-3(a)(12).
Florence E. Harmon,
Deputy Secretary.

[FR Doc. E7-22777 Filed 11-21-07; 8:45 am]

BILLING CODE 8011-01-P